NATIONAL NANOTECHNOLOGY COORDINATION OFFICE

Nanoscale Science, Engineering and Technology Subcommittee, National Science and Technology Council, Committee on Technology; Research Needs and Priorities Related to the Environmental, Health, and Safety Aspects of Engineered Nanoscale Materials: Public Meeting

ACTION: Notice of public meeting.

SUMMARY: The National Nanotechnology Coordination Office (NNCO), on behalf of the Nanoscale Science, Engineering, and Technology (NSET) Subcommittee of the Committee on Technology, National Science and Technology Council (NSTC), will hold a public meeting on January 4, 2007, to receive input on research needs related to the environmental, health, and safety aspects of engineered nanoscale materials (hereafter referred to as nanomaterials). Specifically, the NSET Subcommittee is seeking comment on the research needs and prioritization criteria for the research identified in the NSET Subcommittee document Environmental, Health, and Safety Research Needs for Engineered Nanoscale Materials, which was released on September 15, 2006.

Date and Address: The public meeting will be held on Thursday, January 4, 2007, beginning at 8:30 a.m. at the FDIC Training Center, 3501 North Fairfax Drive, Arlington, VA 22226. A schedule will be published prior to the meeting. Directions to the facility are available on the registration web page (see below).

Registration: Persons interested in attending the meeting may register at http://www.nano.gov/public_ehs.html prior to the meeting. Due to space limitations, early registration is suggested. On-site registration will be available on a first-come basis, space permitting.

Persons interested in presenting comments at the meeting also should register at http://www.nano.gov/public_ehs.html and should do so no later than Wednesday, December 20, 2006.

Written or electronic comments may be submitted on the same web page until January 31, 2007.

Information on this meeting also will be posted on http://www.nano.gov.

FOR FURTHER INFORMATION, CONTACT: For information regarding this Notice, please contact Cate Alexander Brennan, National Nanotechnology Coordination Office. Telephone: (703) 292-4399. E-mail: calexand@nnco.nano.gov.

SUPPLEMENTARY INFORMATION: The Nanoscale Science, Engineering, and Technology (NSET) Subcommittee coordinates planning, budgeting, and program implementation and review to ensure a balanced and comprehensive National Nanotechnology Initiative (NNI). The NSET Subcommittee is composed of representatives from agencies participating in the NNI. The NNCO provides technical and administrative support to the NSET Subcommittee in its work.

On September 15, 2006, the NSET Subcommittee released a document identifying environmental, health, and safety research and information needs related to understanding and management of potential risks of nanomaterials. The document was created by the Nanotechnology Environmental and Health Implications (NEHI) Working Group of the NSET Subcommittee, which is composed of scientists and other agency representatives. The document also reflects expert input from industry liaison groups and other research needs-identification efforts.

This foundational document will be used by the NSET Subcommittee and the Federal agencies participating in the NNI as they set research priorities for Government-funded research programs.

The meeting is an opportunity for public participation in the prioritization of research related to environmental, health, and safety aspects of nanomaterials. Specific comment on research needs and prioritization criteria in the Environmental, Health, and Safety Research Needs for Engineered Nanoscale Materials document and input regarding the criteria for evaluating research priorities is welcome. (To read the document, see http://www.nano.gov/NNI_EHS_research_needs.pdf.)

The public meeting will be chaired by leadership of the NEHI Working Group, the NSET Subcommittee, and the NNCO.

For more information on the National Nanotechnology Initiative and its various working entities, please visit www.nano.gov.

How Can You Participate?

You can participate through oral presentation at the meeting or through written electronic material submitted to the NNCO at http://www.nano.gov/public_ehs.html. The meeting is open to the public, up to the limit set by facility fire codes. Pre-registration is required for participation (see above).

How Will the Meeting Day Be Structured?

Due to significant interest in and the breadth of this subject, our plan is to organize the public meeting around subject areas, including research prioritization criteria and the five research areas identified in the Environmental, Health, and Safety Research Needs for Engineered Nanoscale Materials document: Instrumentation, Metrology, and Analytical Methods; Nanomaterials and Human Health; Nanomaterials and the Environment; Health and Environmental Surveillance; and Risk Management Methods. Speakers are requested to indicate which research area you wish to speak to; if you will direct your comments to topics outside of those identified above, please indicate that as well, so that you can be scheduled accordingly.

In addition to indicating the topical area of your presentation, please also provide a short description of the content you intend to cover. The final organization of the meeting may change depending on the nature of the requests for presentations that are received. The speaker schedule will be distributed before the meeting.

How Will Public Input Be Used?

All comments and recommendations made at the meeting or in written submissions will be considered by the NEHI Working Group as it proceeds with prioritizing the research needs. Input from multiple stakeholders with various interests will be valuable to the NNI, especially with regard to strategic and interim goals for filling the EHS information needs gaps for nanomaterials. The NSET Subcommittee and NNI member agencies plan to make the priority-setting process a dynamic, open, and transparent process.

Mihail Roco,
Senior Advisor, Nanoscale Science, Engineering, and Technology Subcommittee of the National Science and Technology Council Committee on Technology.

[FR Doc. E6-20864 Filed 12-7-06; 8:45 am]

BILLING CODE 3170-WF-P